DEPARTMENT OF ENERGY

Energy Information Administration

Agency Information Collection Proposed Extension; Withdrawal

AGENCY: U.S. Energy Information Administration (EIA), Department of Energy (DOE).

ACTION: Notice; withdrawal.

SUMMARY: On February 9, 2024, EIA published a 60-day notice of an information collection proposed extension; request for comment in the Federal Register. EIA is withdrawing the February 9, 2024, notice of the information collection proposed extension. Accordingly, this notice supersedes the February 9, 2024, notice.

FOR FURTHER INFORMATION CONTACT: Kenneth Pick, EI-21, U.S. Energy Information Administration, telephone: (202) 586-5562, email: Kenneth.Pick@eia.gov.

SUPPLEMENTARY INFORMATION: The EIA is withdrawing the notice published in the Federal Register on February 9, 2024, at 89 FR 9140 (FR Doc. 2024-02727).

Signed in Washington, DC, on March 7, 2024.
Samson A. Adeshiyan,
Director, Office of Statistical Methods and Research, U. S. Energy Information Administration.

[FR Doc. 2024-05411 Filed 3-13-24; 8:45 am]

BILLING CODE 6450-01-P